DEPARTMENT OF THE INTERIOR

Bureau of Reclamation

Yakima River Basin Conservation Advisory Group

AGENCY: Bureau of Reclamation, Interior.

ACTION: Notice of renewal.

SUMMARY: This notice is published in accordance with section 9(a)(2) of the Federal Advisory Committee Act of 1972 (Public Law 92-463). Following consultation with the General Services Administration, notice is hereby given that the Secretary of the Interior is renewing the Yakima River Basin Conservation Advisory Group (CAG). The purpose of the Committee is to provide assistance and recommendations to the Secretary of the Interior and the State of Washington on the structure and implementation of the Yakima River Basin Water Conservation Program. In consultation with the State, the Yakima Nation, Yakima River basin irrigators, and other interested and related parties, six-members and a facilitator are appointed to serve on the Yakima River Basin Water Conservation Advisory Group (CAG).

The basin conservation program is structured to provide economic incentives with cooperative Federal, State, and local funding to stimulate the identification and implementation of structural and nonstructural cost-effective water conservation measures in the Yakima river basin. Improvements in the efficiency of water delivery and use will result in improved streamflows for fish and wildlife and improve the reliability of water supplies for irrigation.

FOR FURTHER INFORMATION CONTACT: Jim Esget, Manager, Yakima River Basin Water Enhancement Program, telephone (509) 575-5848, extension 267.

The certification of renewal is published below:

Certification

I hereby certify that renewal of the Yakima River Basin Conservation Advisory Group is in the public interest in connection with the performance of duties imposed on the Department of the Interior.

Gale A. Norton,
Secretary of the Interior.

[FR Doc. 01-27395 Filed 10-30-01; 8:45 am]

BILLING CODE 4310-94-M